ENVIRONMENTAL PROTECTION AGENCY

[ER-FRL-6642-8]

Environmental Impact Statements; Notice of Availability

Responsible Agency: Office of Federal Activities, General Information (202) 564-7167 or http://www.epa.gov/compliance/nepa/.

Weekly receipt of Environmental Impact Statements

Filed August 4, 2003 Through August 8, 2003

Pursuant to 40 CFR 1506.9.

EIS No. 030365, Final EIS, NPS, PA, Living With The River: Schuylkill River Valley National Area Management Plan, Implementation, Schuylkill, Chester, Philadelphia, Belks, and Montgomery Counties, PA, Wait Period Ends: September 8, 2003, Contact: Peter Samuel (215) 597-1848.

The above NPS EIS should have appeared in the 8/8/2003 Federal Register. The 30-day Wait Period is Calculated from 8/8/2003.

EIS No. 030366, Final EIS, NPS, NC, Carl Sandburg Home National Historic Site, General Management Plan, Implementation, Located in the Village of Flat Rock, Henderson County, NC, Wait Period Ends: September 15, 2003, Contact: Connie Hudson-Bucklund (828) 693-4179.

EIS No. 030367, Draft EIS, IBR, CA, Freeport Regional Water Project, To Construct and Operate a Water Supply Project to Meet Regional Water Supply Needs, Sacramento County Water Agency (SCWA) and the East Bay Municipal Utility District (EBMUD), Alameda, Contra Costa, San Joaquin, Sacramento Counties, CA, Comment Period Ends: September 29, 2003, Contact: Rod Schroeder (916) 989-7274.

EIS No. 030368, Draft EIS, NPS, AZ, Coronado National Memorial General Management Plan, Implementation, Cochise County, AZ, Comment Period Ends: October 14, 2003, Contact: John Paige (303) 969-2356.

EIS No. 230369, Draft EIS, BLM, OR, Timbered Rock Fire Salvage and Elk Creek Watershed Restoration Project, Implementation, Northwest Forest Plan, Butte Falls Resource Area, Medford District, Douglas, Jackson and Josephine Counties, OR, Comment Period Ends: October 14, 2003, Contact: Jean Williams (541) 944-6620. This document is available on the Internet at: http://www.or.blm.gov/Medford/TimbrockEIS.

EIS No. 030370, Draft EIS, BLM, OR, Upper Siuslaw Late-Successional Reserve Restoration Plan, To Protect and Enhance Late-Successional and Old-Growth Forest Ecosystems, Eugene District Resource Management Plan, Northwest Forest Plan, Coast Range Mountains, Lane and Douglas Counties, OR, Comment Period Ends: October 15, 2003, Contact: Rick Colvin (541) 683-6600.

EIS No. 030371, Final EIS, FRC, CA, El Dorado Hydroelectric Project, Application for a New License, South Fork of the American River Basin and Truckee River Basin (FERC NO. 184-065), El Dorado National Forest, Lake Tahoe Basin Management Unit, Alpine, Amador and El Dorado Counties, CA, Wait Period Ends: September 15, 2003, Contact: Susan O'Brien (202) 502-8449. This document is available on the Internet at: http://www.ferc.gov.

EIS No. 030372, Draft Supplement, COE, WV, Lower Mud River at Milton Project, Updated Information on the Milton Local Protection Project, Proposed Flood Damage Reduction Measure, City of Milton, Cabell County, WV, Comment Period Ends: September 29, 2003, Contact: S. Michael Worley (304) 529-5636.

EIS No. 030373, Final Supplement, AFS, CA, Herger-Feinstein Quincy Library Group Forest Act Pilot Project, Proposal to Analyze Options for Maintaining Defensible Fuel Profile Zones (DFPZs), Lassen, Plumas and Tahoe National Forests, Shasta, Lassen, Tehama, Yuba, Plumas and Battle Counties, CA, Wait Period Ends: September 15, 2003, Contact: Linda Kanski (530) 283-7821.

EIS No. 030374, Draft EIS, AFS, CA, South Tahoe Public Utility District (STPUD) B-Line Phase III Wastewater Export Pipeline Replacement Project, Luther Pass Pump Station to U.S. Forest Service Luther Pass Overflow Campground Access Road, Special Use Permit, U.S. Army COE Section 404 and US Fish and Wildlife Service Permits Issuance and EPA Grant, El Dorado and Alpine Counties, CA, Comment Period Ends: September 29, 2003, Contact: Gary Weigel (530) 543-2665.

EIS No. 030375, Final EIS, TVA, TN, NC, VA, Adoption—Patriot Project, Construction and Operation of Mainline Expansion and Patriot Extension in order to Transport 510,000 dekatherms per day (dth/day) of Natural Gas, TN, VA and NC, Contact: Harold M. Draper (865) 632-6889. Tennessee Valley Authority's has adopted the Federal Regulatory Commission's Final EIS, #020401 filed 09-20-2002. TVA was a Cooperating Agency for the above final EIS. Recirculation of the document is not necessary under Section 1506.3(c) of the Council on Environmental Quality Regulations.

Dated: August 12, 2003.
Joseph C. Montgomery,
Director, NEPA Compliance Division, Office of Federal Activities.

[FR Doc. 03-20902 Filed 8-14-03; 8:45 am]

BILLING CODE 6560-50-U